DEPARTMENT OF TRANSPORTATION

Federal Aviation Administration

Draft Specification for Airport Light Bases, Transformer Housings, Junction Boxes, and Accessories, Advisory Circular 150/5345-42G; Opportunity To Comment

AGENCY: Federal Aviation Administration (FAA), DOT.

ACTION: Notice.

SUMMARY: The Federal Aviation Administration (FAA), DOT invites airports consultants, industry representatives and all other interested parties to review and comment on the Draft “Specification for Airport Light Bases, Transformer Housings, Junction Boxes, and Accessories Airport Design” Advisory Circular, AC 150/5345-42G. The Advisory Circular provides standards and recommendations for airport light bases, transformer housings, junction boxes and accessories.

The FAA has posted the AC on the Internet at: http://www.faa.gov/airports/resources/advisory_circulars/.

DATES: Comments must be received on or before August 13, 2012. Comments that are received after that date will be considered to the extent possible.

FOR FURTHER INFORMATION CONTACT: Raymond Zee, P.E., Airport Engineering Division, (AAS-100), Federal Aviation Administration, 800 Independence Ave. SW., Washington, DC 20591; telephone (202) 267-7874.

ADDRESSES: Comments must be submitted by:

• Hand Delivery/Courier: Federal Aviation Administration, 800 Independence Avenue SW., AAS-100, Room 621, Washington DC 20590.

• FAX: (202) 267-3688.

SUPPLEMENTARY INFORMATION: Title 49 of the United States Code, section 47108(a), provides that the Secretary may impose terms on the offer that the Secretary considers necessary to carry out this subchapter and regulations to be assumed by the sponsor. Uniform design standards for airports can be found in the Federal Aviation Administration advisory circular and mandatory use is required on all Federal Airport Improvement Program projects. This draft AC incorporates all previous changes and numerous technical updates. Change bars are used to signify what has changed from the previous document. Principal changes include:

a. Section 2, applicable Documents: All download Web sites are updated. Document titles updated.

b. Paragraph 3.1.3.6 is updated to include a prohibition of exothermic welds on galvanized steel light bases.

c. The use of coated steel fasteners (SAE Grade2 or ASTM A307-A) per Engineering Brief (EB) 83, In-Pavement Light Fixture Bolts is introduced where applicable in the AC.

d. Paragraph 4.3.10 is updated to replace the AC 150/5345-42F torque test for L868 light bases with the 150/5345-42C version.

e. Figure 2, Body, Type L-867, Class IA, Class IB, Class IIA, Class IIB, is updated to show that the AAA dimension for the bottom diameter has increased from 13.000 inches to 13.500 inches for easier weld fabrication.

f. Figure 6, Body, Type L-868, Class IA, Class IB is updated to show a 1/2-inch increase in the maximum AAA dimension for the bottom diameter for easier weld fabrication.

g. Figure 8, Extensions, Type L-868, Class IA, Class IB is updated to show an increase in the extension height to order from 2.0 in. to 2.25 in. Spacer ring maximum thickness is changed from 1-15/16 inches to 2-3/16 inches.

h. Figure 8, Extensions, Type L-868, Class IA, Class IB is updated to show an increase in the extension height to order from 2.0 in. to 2.25 in. Spacer ring maximum thickness is changed from 1 15/16 inches to 2 3/16 inches.

Issued in Washington, DC, on June 15, 2012.
Michael O'Donnell,
Director, Office of Airport & Safety Standards.

[FR Doc. 2012-15790 Filed 6-27-12; 8:45 am]

BILLING CODE 4910-13-M